DEPARTMENT OF THE INTERIOR

Bureau of Land Management

[NV-030-2822-JL-J787; Closure Notice No. NV-030-00-001]

Emergency Closure and Vehicle Restriction on Federal Lands

SUMMARY: Notice is hereby given that certain public lands south of Hungry Ridge and northwest of Spanish Springs Valley, Washoe County, Nevada, are closed to all motorized vehicles. This closure is necessary due to unauthorized construction of a motorcross track in a rehabilitated materials pit, and off-road vehicle use which is causing considerable adverse effects to soils and vegetation. In addition, motorized vehicle use is restricted to existing roads and trails on all public lands under the jurisdiction of the Carson City Field Office which were burned during the 1999 fire season. These fires were identified by the following names: (1) Sand Springs/Fairview; (2) Cold Springs; (3) Stillwater Complex; (4) Shoshone; (5) New Pass; (6) Cemetery; (7) Fish; (8) Wilcox; (9) Reservoir; (10) Red Rock; (11) Pah Rah; and (12) Sutro. This restriction is necessary in order to allow for recovery and revegetation of these lands.

DATES: This closure becomes effective immediately and these restrictions will go into effect on March 20, 2000, and will remain in effect until the Manager, Carson City Field Office, determines they are no longer needed.

FOR FURTHER INFORMATION CONTACT: John O. Singlaub, Manager, Carson City Field Office, 5665 Morgan Mill Road, Carson City, Nevada 89701. Telephone (775) 885-6100.

SUPPLEMENTARY INFORMATION: The authorities for the closure and restrictions are 43 CFR 8341.2, 43 CFR 8342.3 and 43 CFR 8364.1. Any person who fails to comply with a closure or restriction order is subject to arrest and fines in accordance with applicable provisions of 18 U.S.C. 3571 and/or imprisonment not to exceed 12 months.

This order applies to all motorized vehicles excluding (1) any emergency or law enforcement vehicle while being used for emergency purposes, and (2) any vehicle whose use is expressly authorized in writing by the Manager, Carson City Field Office.

The public lands affected by the closure order are located approximately one mile west of Nevada Highway 445 at the south end of Hungry Ridge, and include all lands being used as an unauthorized motorcycle race course within:

Mt. Diablo Meridian

T. 21 N., R. 20 E.

Sec. 22, NE¼NE¼NW¼

The public lands affected by the restriction order constitute approximately 151,000 acres and are located throughout the area administered by the Carson City Field Office. These lands are depicted on maps posted in the Carson City Field Office. Copies of these maps also may be obtained from the Field Office.

Dated: March 8, 2000.
John O. Singlaub,
Manager, Carson City Field Office.

[FR Doc. 00-7906 Filed 3-29-00; 8:45 am]

BILLING CODE 4310-HC-M